DEPARTMENT OF COMMERCE

National Oceanic and Atmospheric Administration

RIN 0648-XA375

Endangered and Threatened Species; Take of Anadromous Fish

AGENCY: National Marine Fisheries Service (NMFS), National Oceanic and Atmospheric Administration (NOAA), Commerce.

ACTION: Applications for seven new scientific research permits and one permit modification.

SUMMARY: Notice is hereby given that NMFS has received eight scientific research permit application requests relating to Pacific salmon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on May 19, 2011.

ADDRESSES: Written comments on the applications should be sent to the Protected Resources Division, NMFS, 1201 NE Lloyd Blvd., Suite 1100, Portland, OR 97232-1274. Comments may also be sent via fax to 503-230-5441 or by e-mail to nmfs.nwr.apps@noaa.gov.

FOR FURTHER INFORMATION CONTACT: Garth Griffin, Portland, OR ph.: 503-231-2005, Fax: 503-230-5441, e-mail: Garth.Griffin@noaa.gov. Permit application instructions are available from the address above, or online at apps.nmfs.noaa.gov http://www.nwr.noaa.gov.

SUPPLEMENTARY INFORMATION:

Species Covered in This Notice

The following listed species are covered in this notice:

Chinook salmon (Oncorhynchus tshawytscha): Threatened lower Columbia River (LCR), threatened upper Willamette River (UWR), endangered upper Columbia River (UCR), threatened Snake River (SR) spring/summer (spr/sum), and threatened Puget Sound (PS).

Chum salmon (O. keta): Threatened Columbia River (CR).

Steelhead (O. mykiss): Threatened LCR, threatened UWR, threatened middle Columbia River (MCR), threatened SR, threatened UCR.

Coho salmon (O. kisutch): Threatened LCR, threatened Oregon Coast (OC), threatened Southern Oregon/Northern California coasts (SONCC).

Sockeye salmon (O. nerka): Endangered SR.

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 14271—3M

The Washington State Department of Ecology (Ecology) is seeking to modify and extend their 2-year scientific research permit that currently authorizes them to take juvenile and adult LCR Chinook, CR Chum, LCR coho, MCR Steelhead, and LCR steelhead, PS Chinook salmon, PS steelhead, HC chum salmon, UCR steelhead and Chinook, SR sockeye. The modification would extend the permit for one more year (through 2012), increase the number of MCR steelhead they may take, and allow them to take SR steelhead, SR fall Chinook, and SR spr/sum Chinook. The purpose of the project is to continue developing a sampling plan to report on the status of watershed health and salmon recovery efforts at three spatial scales: Water Resource Inventory Area, Salmon Recovery Region, and statewide. The goal is to develop a quality assurance monitoring plan for statewide probability-based sampling of aquatic habitat conditions and species diversity and abundance. This status and trends monitoring plan is mandated by a Washington State Governor's executive order. The information gathered by this research would benefit listed salmonids by helping resource managers evaluate the effectiveness of habitat restoration efforts and monitor aquatic species status and trends. The applicant proposes to capture fish using backpack and boat electrofishing equipment. Listed fish would be enumerated and immediately released. The applicant does not propose to kill any listed fish species, but a small number may die as an unintended result of the activities.

Permit 15486

Forest and Channel Metrics (FCM) Inc. is seeking a 2-year permit to capture and handle juvenile UCR Chinook and steelhead, LCR Chinook and steelhead, SR Chinook (spr/sum) and steelhead, PS Chinook, and LCR coho salmon during the course of headwater stream surveys over wide parts of Washington State. The work they would conduct is substantially similar to work previously conducted under another permit—Permit 13375. The purpose of the research is to provide owners of industrial forest lands and the major state lands managers in Washington with accurate maps of where threatened and endangered salmonids are found on State and industrial Forest lands. The work would benefit the salmon and steelhead by helping land managers plan and carry out their activities in ways that would have the smallest effect possible on the listed fish. The fish would be captured using backpack electrofishing equipment and released without tagging or even handling more than is necessary to ensure that they have recovered from the effects of being captured. The FCM researchers do not intend to kill any listed salmonids, but a small number may die as an unintended result of the activities.

Permit 16122

The Colville Confederated Tribes (CCT) are seeking a 5-year permit to take juvenile UCR steelhead in the Okanogan River, Washington. The purpose of the research is to monitor steelhead populations in the basin. The researchers are seeking to estimate natural production and productivity and calculate annual population estimates, egg-to-emigrant survival, and emigrant-to-adult survival rates. The population estimates will be used to evaluate the effects of supplementation programs in the Okanogan River Basin and provide managers with the data they need to develop a rigorous spawner-recruit relationship. The research would benefit the fish by giving state and Federal managers information on UCR steelhead status and the degree to which they are being affected by supplementation programs in the area. The fish would be captured at screw trapping sites on the Okanogan River. All captured fish will be identified and checked for marks and tags. A subsample of selected fish will be measured and weighed before being released back into the Okanogan River. A further subsample will be marked with a brown dye, released upstream of the screw traps, and recaptured for the purpose of determining trap efficiency. The researchers do not intend to kill any listed salmonids, but a small number may die as an unintended result of the activities.

Permit 16142

The Confederated Tribes of the Warm Springs Reservation (CTWSR) are seeking a 5-year permit to capture, handle, and release juvenile MCR steelhead in the John Day River, Oregon. The purpose of the research is to monitor anadromous fish response at habitat restoration projects throughout the John Day Basin. Currently, many watershed restoration actions are taking place in the basin (generally, they are being conducted by Soil and Water Conservation Districts, Watershed Councils, and State, Tribal and Federal Agencies). However there is some question regarding how effective these projects are in terms of helping recover the listed salmonids. The researchers would estimate the density of juvenile salmonids at the project level and thereby monitor any changes in rearing juvenile abundance occurring in response to the restoration actions. All treatment (restoration) sites will be paired with control sites. The research would benefit the fish by helping managers determine the most effective ways to restore habitat. The CTWSR would capture the fish by the means of beach seines, dip nets, and backpack electrofishing. They would also conduct some snorkel surveys. The researchers do not intend to kill any listed salmonids, but a small number may die as an unintended result of the activities.

Permit 16181

Dr. Christopher Peery is seeking a 5-year permit to handle and tag adult SR sockeye at the adult fish trap at Lower Granite Dam, Washington. The purpose of the study is to identify what conditions affect sockeye migration success and thereby allow managers to better determine when (and if) transporting adult sockeye upstream would be safer for them than allowing them to migrate upriver naturally. The researchers propose to evaluate the relationship between timing, fish condition, the river environment, and migration success in the river reaches upstream from Lower Granite Dam. Sockeye salmon seen at the Lower Granite Dam facility often do not reach their spawning grounds; the research would benefit the fish by determining the reasons for this and thereby helping managers either address the problem or, as noted, determine when it may be safer to transport the fish to the spawning grounds. The fish would be taken from the adult fish trap at Lower Granite Dam, anesthetized, measured, weighed, tissue sampled, fitted with radio tags, allowed to recover, and returned to the river. The researchers do not intend to kill any listed salmonids, but a small number may die as an unintended result of the activities.

Permit 16298

The Shoshone-Bannock Tribes (SBT) are seeking a 5-year permit to annually take juvenile and adult SR spr/sum Chinook and juvenile SR steelhead in Bear Valley Creek, Idaho. The purpose of the research is to estimate fish abundance, smolt-to-adult return rates, and adult productivity in Bear Valley Creek with a high degree of accuracy. The researchers are seeking to generate information that may be used widely throughout the Salmon River subbasin. This monitoring project was recommended as part of the “Anadromous Salmonid Monitoring Strategy Viable Salmonid Population Criteria and Subset of Tributary Habitat and Hatchery Effectiveness,” developed through the Columbia Basin Coordinated Anadromous Monitoring Workshop. The work will benefit fish by giving managers key information about population status in the Salmon River subbasin which, in turn, will be used to inform recovery plans and land-management activities. The SBT would count and monitor adult spr/sum Chinook at a video station and they would handle, measure, and tissue sample juvenile SR spr/sum Chinook and steelhead at a screw trap. They would also do some harvest monitoring (creel surveys) and spawning ground surveys. The researchers do not intend to kill any listed salmonids, but a small number may die as an unintended result of the activities.

Permit 16329

The Oregon Department of Environmental Quality (DEQ) is seeking a 5-year permit to take adult and juvenile fish of every species in this notice except for UCR Chinook and steelhead and SR sockeye. The fish would be taken during the course of five possible projects: (1) The National Streams and Rivers Assessment. This EPA-sponsored survey uses a random sampling design to estimate the health (in terms of water quality and other physical and biological parameters) of streams and rivers around the region and nation. The fish portion of the project looks at species assemblage as an indicator of a system's overall ecological integrity, evaluates presence of invasive fish species, and evaluates toxic contamination of fish tissue. Field work is planned for this project in 2013 and 2014 and may involve as many as 60 sites. (2) Oregon Toxics Monitoring Program. This program looks at a range of pollutants in water, river sediments, and fish tissues—including current use and legacy pesticides, estrogenic compounds, pharmaceutical and personal care products, metals, and industrial chemicals such as PCBs, dioxins and furans. The species targeted for this work are typically bass and pikeminnow. Survey sites are typically at the downstream portion of larger rivers and tributaries. This work may involve as many as 20 sites per year. (3) Basins Biological Assessments. The DEQ is developing a monitoring program that looks at a range of environmental health indicators (such as fish species) on a basin scale. This work would feed into that effort. (4) Mixing Zone Surveys. Mixing zones are sections of water bodies downstream of municipal and industrial effluent discharges. The DEQ occasionally monitors fish use and health within and outside mixing zones to evaluate how effectively waste treatment protocols and processes are protecting the environment. Mixing zones are typically found in larger rivers. This work may involve as many as 10 sites per year. (5) Spill Impact and Cleanup Effectiveness Evaluations. The DEQ occasionally studies water bodies that have received toxic spills. These surveys could potentially occur in any state water body and could involve as many as five sites per year.

The work would benefit fish in a number of different ways—from helping evaluate watershed health to generating information on contaminant concentrations to determining if current water quality protection regulations and methods are sufficiently effective. The DEQ researchers would capture fish using a variety of methods—boat- and backpack electrofishing, hook-and-line angling, and seines. No drugs or anesthesia would be used on the captured fish. The fish would be held very briefly and, except for brief transfers and some minimal measuring and weighing, the animals would not be handled out of water. All fish would be returned to the capture sites as quickly as possible. The researchers do not intend to kill any listed salmonids, but a small number may die as an unintended result of the activities.

Permit 16383

The U.S. Fish and Wildlife Service (USFWS) is seeking a permit to annually take listed salmonids while conducting research designed to (a) determine if there is any disease transmission between wild and hatchery fish in the upper Columbia River and (b) gather baseline information on pathogen presence in the local fish populations. This research has been conducted for over nine years under a previous scientific research permit—Permit 1423. The research will take place in the Methow and Entiat River subbasins, Washington. The research will benefit listed fish by increasing our knowledge of disease presence and transmission in the Upper Columbia River and thereby help managers reduce the risks associated with those diseases. The fish will be captured using a variety of methods: Nets, traps, boat- and backpack electrofishing, and hook-and-line angling. Many of the captured fish will be killed and sampled for pathogens, but the majority will immediately be released back to the site of their capture.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 14, 2011.
Angela Somma,
Chief, Endangered Species Division, Office of Protected Resources, National Marine Fisheries Service.

[FR Doc. 2011-9454 Filed 4-18-11; 8:45 am]

BILLING CODE 3510-22-P